DEPARTMENT OF HEALTH AND HUMAN SERVICES

Administration for Community Living

Intent To Award a Single-Source Supplement for the Centers for Independent Living (Subchapter C) Training & Technical Assistance (T&TA) Center Cooperative Agreement

ACTION: Announcing the intent to award a single-source supplement.

SUMMARY: The Administration for Community Living (ACL) announces the intent to award a single-source supplement to the current cooperative agreement held by the Memorial Hermann Health System for training and technical assistance to the Centers for Independent Living (CILs) that are Subchapter C grantees. The purpose of this project is to develop and provide trainings for CILs, develop and provide TA to CILs, administer peer mentoring for CILs, and refer CILs to other T&TA resources. The administrative supplement for FY 2019 will be in the amount of $351,327, bringing the total award for FY 2019 to $1,634,490.

FOR FURTHER INFORMATION CONTACT: For further information or comments regarding this program supplement, contact Regina Blye, U.S. Department of Health and Human Services, Administration for Community Living, Administration on Disabilities, Office of Independent Living: telephone (202)-795-7374; email regina.blye@acl.hhs.gov.

SUPPLEMENTARY INFORMATION: The additional funding will not be used to begin new projects, but to serve more CILs that are Subchapter C grantees with the same services and opportunities that Memorial Hermann Health System has been providing for some CILs that are Subchapter C grantees.

Program Name: Centers for Independent Living (Subchapter C) Training & Technical Assistance (T&TA) Center.

Recipient: Memorial Hermann Health System.

Period of Performance: The supplemental award will be issued for the third year of the three-year project period of September 30, 2019 through September 29, 2020.

Total Award Amount: $1,634,490 in FY 2019.

Award Type: Cooperative Agreement Supplement.

Statutory Authority: Rehabilitation Act of 1973, as amended, Public Law 114-95, Title 7, Section 721.

Basis for Award: The Memorial Hermann Health System is currently funded to provide T&TA to CILs for the period of September 30, 2017 through September 29, 2020. ACL is required to spend 1.8-2% of ACL's funds appropriated for CILs for FY 2020 on T&TA for CILs. Without this supplement, ACL would spend less than the 1.8% minimum required amount of funds on T&TA in FY 2020. This supplement will result in ACL complying with this minimum requirement of the statute. This additional funding will enable Memorial Hermann Health System to enhance its capacity to provide more trainings, technical assistance, peer mentoring, and referrals for more CILs.

Memorial Hermann Health System is uniquely positioned to complete the work called for under this project as Memorial Hermann Health System presently provides T&TA services to CILs. Many CILs have benefited from the T&TA provided by the Memorial Hermann Health System's many trainings and other resources.

Establishing another entity as a T&TA provider for CILs would probably be inefficient and disruptive. Another entity would not be able to promptly develop and implement a high-quality T&TA project for one year of funds. If this supplement were not provided, ACL would not meet the requirement that a minimum of 1.8% of funds appropriated for CILs be utilized to provide T&TA services to CILs.

Dated: August 30, 2019.
Lance Robertson,
Administrator and Assistant Secretary for Aging.

[FR Doc. 2019-19248 Filed 9-5-19; 8:45 am]

BILLING CODE 4154-01-P